DEPARTMENT OF AGRICULTURE

Grain Inspection, Packers and Stockyards Administration

Notice of Request for New Information Collection

AGENCY: Grain Inspection, Packers and Stockyards Administration, USDA.

ACTION: Notice and request for comments.

SUMMARY: This notice announces our intention to request approval from the Office of Management and Budget for two new information collection activities to support a large livestock and meat marketing study. There will be two types of information collection activities. First, transactions data on procurement and sales will be collected from meat packers, meat processors, food wholesalers, food retailers, food service operations, and meat exporters. Second, a survey will be conducted regarding the use of alternative marketing arrangements for cattle, hog, and lamb and their meat products among producers, feeders, dealers, meat packers, meat processors, food wholesalers, food retailers, food service operations, and meat exporters.

DATES: We will consider comments that we receive by November 8, 2004.

ADDRESSES: We invite you to submit comments on this notice. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

Instructions: All comments should make reference to the date and page number of this issue of the Federal Register.

Background Documents: Information collection package and other documents relating to this action will be available for public inspection in the above office during regular business hours.

Read Comments: All comments will be available for public inspection in the above office during regular business hours (7 CFR 1.27(b)).

FOR FURTHER INFORMATION CONTACT: Roger Schneider, Economist, USDA, GIPSA, (202) 720-4660, 1400 Independence Avenue, SW., Room 1642-S, Washington, DC 20250-3647, or via e-mail at Roger.E.Schneider@usda.gov.

SUPPLEMENTARY INFORMATION: The Grain Inspection, Packers and Stockyards Administration (GIPSA) of the U.S. Department of Agriculture (USDA) administers the Packers and Stockyards Act of 1921, as amended and supplemented (7 U.S.C. 181-229) (P&S Act). The P&S Act prohibits unfair, deceptive, and fraudulent practices by market agencies, dealers, stockyards, packers, swine contractors, and live poultry dealers in the livestock, meatpacking, and poultry industries. In fiscal year 2003, GIPSA received $4.5 million in appropriations for a packer concentration study, which will be a broad study of marketing practices in the entire livestock and red meat industries (Pub. L. 108-7, 117 Stat. 22). The study will address many questions and concerns that have been raised about changes in the structure and business practices in the livestock and meat industries. We published a notice announcing the study and describing the approach that we planned for the study on May 30, 2003 (68 FR 32455-32458).¹

¹ Additional information about the study, including comments to the notice and the announcement of the contract to perform the study, is available on the GIPSA web site (http://www.usda.gov/gipsa/psp/issues/livemarketstudy/livestock_marketing_study.htm).

More specifically, the study will: (1) Identify and classify spot and alternative marketing arrangements; (2) describe terms, availabilty, and reasons for use of spot and alternative marketing arrangements and associated prices; (3) determine extent of use, analyze price differences, and analyze short-run spot market price effects of alternative marketing arrangements; (4) measure and compare costs and benefits associated with spot and alternative marketing arrangements; and (5) analyze the implications of alternative marketing arrangements for the livestock and meat marketing system.

This notice announces and requests comments on two information collection packages that we are preparing to request approval from the Office of Management and Budget to collect information for the study. The first information collection package will cover transactions data on procurement and sales from meat packers, feeders, dealers, meat processors, food wholesalers, food retailers, food service operations, and meat exporters. The second information collection package will cover surveys about the use of alternative marketing arrangements among cattle, hog, and lamb producers, meat packers, meat processors, food wholesalers, food retailers, food service operations, and meat exporters.

Title: Livestock and Meat Marketing Study; Transactions Data and Survey of Alternative Marketing Arrangements.

OMB Number: New Collection.

Expiration Date of Approval: New Collection.

Type of Request: New.

Abstract: To conduct this study it is necessary to collect data on procurement and sales transactions from a sample of meat packers, meat processors, food wholesalers, food retailers, food service operations, and meat exporters. The establishments selected for the sample will be asked to provide the requested data in an electronic format, to the greatest extent practicable.

Response to this data collection which constitutes a special report, will be required for meat packers and meat processors (7 U.S.C. 222).² The establishments will be asked to provide daily transactions data for procurement and sales for a 2-year period. Additionally, meat packers will be asked to provide summaries of operations data (profit and loss statements).

² The recordkeeping requirements for the data covered by this information collection activity have been previously approved separately under OMB control number 0580-0015.

Response to this data collection will be voluntary for food wholesalers food retailers, food service operations, and meat exporters. The establishments will be asked to provide transactions data for procurement and sales for a 2-year period in an aggregated format to reduce the burden.

In addition, to complete this study it is necessary to conduct surveys of cattle, hog, and lamb producers, feeders, dealers, meat packers, meat processors, food wholesalers, food retailers, food service operations, and meat exporters. Participation in the surveys will be voluntary. Surveys will be mailed, with initial and follow-up contacts by telephone. The surveys will collect information on terms and frequency of use of alternative marketing arrangements; volume of livestock and meat transferred with alternative marketing arrangements, pricing methods for livestock and meat; reasons for using alternative marketing arrangements; and the effects of alternative marketing arrangements on costs and efficiencies, product quality, and risk shifting. The survey question will be targeted to the appropriate industry segment to reduce burden.

All data collection requests will include a pledge of confidentiality and the data will be collected exclusively for statistical purposes consistent with the provisions of the Confidential Information Protection and Statistical Efficiency Act of 2002 (CIPSEA). In addition, the transactions data collected from meat packers and processors (part 1) will be subject to the confidentiality restrictions in the P&S Act.

(1) Transaction Data

Estimate of Burden: The public reporting burden for this collection of information is estimated to average 40 hours per response.

Respondents (Affected Public): Meat packers, meat processors, food wholesalers, food retailers, food service operations, and meat exporters.

Estimated Number of Respondents: 400.

Estimated Number of Responses per Respondent: 1.

Estimated Total Annual Burden on Respondents: 16,000 hours.

Total Costs: Transactions data reporting $435,072 for all establishments combined. Calculated as follows: (16,000 hours) × ($27.192 per hours) = $435,072.

(2) Alternative Marketing Arrangements Survey

Estimate of Burden: The public reporting burden for this collection of information is estimated to average 60 minutes per response.

Respondents (Affected Public): Cattle, hog, and lamb producers, feeders, dealers, meat packers, meat processors, food wholesalers, food retailers, food service operations, and meat exporters.

Estimated Number of Respondents: 3,800.

Estimated Number of Responses per Respondent: 1.

Estimated Total Annual Burden on Respondents: 3,800 hours.

Total Costs: Survey reporting $139,080 for all establishments combined. Calculated as follows: (3,800 hours) × ($36.60 per hour) = $139.080.

Copies of this information collection assessment can be obtained from Tess Butler; see ADDRESSES section for contact information.

As required by the Paperwork Reduction Act (44 U.S.C. 3506(c)(2)(A)) and its implementing regulations (5 CFR 1320.8(d)(1)(i)), we specifically request comments on:

(a) Whether the proposed collection of information is necessary for the proper performance of the functions of the agency, including whether the information will have practical utility;

(b) The accuracy of the agency's estimate of the burden of the proposed collection of information, including the validity of the methodology and assumptions used;

(c) Ways to enhance the quality, utility, and clarity of the information to be collected; and

(d) Ways to minimize the burden on the collection of information on those who are to respond, including through the use of appropriate automated, electronic, mechanical, or other technological collection techniques or other forms of information technology.

All responses to this notice will be summarized and included in the request for OMB approval. All comments will also become a matter of public record.

Authority: 44 U.S.C. 3506, 5 CFR 1320.8, and Pub. L. 108-7, 117 Stat. 22.

Gary McBryde,
Acting Administrator, Grain Inspection, Packers and Stockyards Administration.

[FR Doc. 04-20432 Filed 9-8-04; 8:45 am]

BILLING CODE 3410-EN-M